COMMISSION ON CIVIL RIGHTS

Notice of Public Meeting of the Nebraska Advisory Committee; Cancellation

AGENCY: Commission on Civil Rights.

ACTION: Notice; cancellation of community forum meeting.

SUMMARY: The Commission on Civil Rights published a notice in the Federal Register concerning a community forum meeting of the Nebraska Advisory Committee. The meeting scheduled for Wednesday, August 9, 2023, at 1:00 p.m. (CST) is cancelled.

FOR FURTHER INFORMATION CONTACT: Victoria Moreno, vmoreno@usccr.gov, (434) 515-0204.

SUPPLEMENTARY INFORMATION: The meeting notice was originally published in the Federal Register of Thursday, July 27, 2023, in FR Doc. 2023-15886 in the second columns of page 48431 (88 FR 48431).

Dated: August 7, 2023.
David Mussatt,
Supervisory Chief, Regional Programs Unit.

[FR Doc. 2023-17161 Filed 8-9-23; 8:45 am]

BILLING CODE P